DEPARTMENT OF ENERGY

Federal Energy Regulatory Commission

Combined Notice of Filings No 2

July 27, 2009.

Take notice that the Commission has received the following Natural Gas Pipeline Rate and Refund Report filings:

Docket Numbers: RP00-632-033.

Applicants: Dominion Transmission, Inc.

Description: Dominion Transmission, Inc. errata to Workpaper 5 to it's Informational Annual Fuel Report.

Filed Date: 07/17/2009.

Accession Number: 20090717-5067.

Comment Date: 5 p.m. Eastern Time on Friday, July 31, 2009.

Docket Numbers: RP09-448-001.

Applicants: Texas Gas Transmission, LLC.

Description: Supplemental Information—Additional Support of Texas Gas Transmission, LLC.

Filed Date: 05/11/2009.

Accession Number: 20090511-5116.

Comment Date: 5 p.m. Eastern Time on Friday August 31, 2009.

Docket Numbers: RP09-748-001.

Applicants: Quest Pipelines (KPC).

Description: Quest Pipelines (KPC) submits Substitute First Revised Sheet 190 to FERC Gas Tariff, Second Revised Volume 1, to be effective 8/1/09.

Filed Date: 07/24/2009.

Accession Number: 20090724-0098.

Comment Date: 5 p.m. Eastern Time on Wednesday, August 05, 2009.

Docket Numbers: RP06-298-009.

Applicants: Public Service Commission of New York v.

Description: Semi-Annual Report of Operational Sales of Gas of National Fuel Gas Supply Corporation.

Filed Date: 07/23/2009.

Accession Number: 20090723-5028.

Comment Date: 5 p.m. Eastern Time on Tuesday, August 04, 2009.

Docket Numbers: RP09-447-003.

Applicants: Monroe Gas Storage Company, LLC.

Description: Monroe Gas Storage Company, LLC submits Non-Conforming Service Agreements with Citigroup Energy Inc pursuant to the Commission's 7/16/09 Order under RP09-447.

Filed Date: 07/23/2009.

Accession Number: 20090724-0074.

Comment Date: 5 p.m. Eastern Time on Tuesday, August 04, 2009.

Docket Numbers: RP09-666-002.

Applicants: El Paso Natural Gas Company.

Description: El Paso Natural Company submits Second Revised Volume 1A to its FERC Gas Tariff under RP09-666.

Filed Date: 07/23/2009.

Accession Number: 20090723-0164.

Comment Date: 5 p.m. Eastern Time on Tuesday, August 04, 2009.

Docket Numbers: RP09-706-001.

Applicants: Southeast Supply Header, LLC.

Description: Southeast Supply Header, LLC submits FERC Gas Tariff, Original Volume 1, an Sub First Revised Sheet 342, to be effective 8/1/09.

Filed Date: 07/23/2009.

Accession Number: 20090723-0165.

Comment Date: 5 p.m. Eastern Time on Tuesday, August 04, 2009.

Docket Numbers: RP09-710-002.

Applicants: Clear Creek Storage Company, LLC.

Description: Clear Creek Storage Company, LLC submits Second Substitute Sixth Revised Sheet 77 et al to its FERC Gas Tariff, to be effective 8/1/09.

Filed Date: 07/23/2009.

Accession Number: 20090723-0168.

Comment Date: 5 p.m. Eastern Time on Tuesday, August 04, 2009.

Docket Numbers: RP09-718-001.

Applicants: Egan Hub Storage, LLC.

Description: Egan Hub Storage, LLC submits Sub Fourth Revised Sheet 156 to its FERC Gas Tariff, First Revised Volume 1, to be effective 8/1/09.

Filed Date: 07/23/2009.

Accession Number: 20090723-0167.

Comment Date: 5 p.m. Eastern Time on Tuesday, August 04, 2009.

Docket Numbers: RP09-753-001.

Applicants: TransColorado Gas Transmission Company LLC.

Description: TransColorado Gas Transmission Company, LLC submits Substitute First Revised Sheet 203 to FERC Gas Tariff, Second Revised Volume 1 to be effective 8/1/09.

Filed Date: 07/23/2009.

Accession Number: 20090723-0166.

Comment Date: 5 p.m. Eastern Time on Tuesday, August 04, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis,
Deputy Secretary.

[FR Doc. E9-18498 Filed 8-3-09; 8:45 am]

BILLING CODE 6717-01-P